DEPARTMENT OF TRANSPORTATION

Federal Aviation Administration

[Docket No. FAA-2016-6596]

Passenger Facility Charge (PFC) Program: Eligibility of Ground Access Projects Meeting Certain Criteria; Correction

AGENCY: Federal Aviation Administration (FAA); DOT.

ACTION: Notice of proposed policy amendment and request for comments; correction.

SUMMARY: This action corrects the notice of proposed policy published on May 3, 2016. In that document, the FAA solicited comments on a proposal to amend its “Notice of Policy Regarding the Eligibility of Airport Ground Access Transportation Projects for Funding Under the Passenger Facility Charge (PFC) Program,” ¹ regarding the requirements for PFC funding of on-airport, rail access projects. This document corrects errors in the docket number and contact information.

¹ 69 FR 6366 (Feb. 10, 2004).

DATES: May 10, 2016. The comment period will close June 2, 2016.

FOR FURTHER INFORMATION CONTACT: Joe Hebert, Manager, Financial Analysis and Passenger Facility Charge Branch, APP-510, Federal Aviation Administration, 800 Independence Avenue SW., Washington, DC 20591, telephone (202) 267-8375; facsimile (202) 267-5302.

SUPPLEMENTARY INFORMATION: On May 3, 2016, the FAA published a notice titled “Notice of Proposed Policy Amendment and Request for Comments” (81 FR 26611). In that Notice, the FAA proposed to change the policy regarding the Passenger Facility Charge eligibility of ground access projects meeting certain criteria. The notice was inadvertently issued without a correct Docket Number and complete contact information.

In FR Doc. 2016-10334, beginning on page 26611 in the Federal Register, make the following corrections:

1. On page 26611, in the first column, after Federal Aviation Administration, add Docket No. FAA-2016-6596; and in the first paragraph under ADDRESSES, correct Docket Number FAA 2016-XXXX to read Docket No. FAA-2016-6596.

2. On page 26611, in the second column, after FOR FURTHER INFORMATION CONTACT, add Joe Hebert, Manager, Financial Analysis and Passenger Facility Charge Branch, APP-510, and on line 8, remove 267-3831 and add in its place 267-8375.

Issued in Washington DC, on May 4, 2016.
Elliott Black,
Director, Office of Airport Planning and Programming.

[FR Doc. 2016-10975 Filed 5-9-16; 8:45 am]

BILLING CODE 4910-13-P